DEPARTMENT OF HEALTH AND HUMAN SERVICES

Administration for Community Living

Agency Information Collection Activities; Proposed Collection; Comment Request; Data Collection Materials for the Evaluation of the Administration for Community Living's American Indian, Alaska Natives and Native Hawaiian Programs (OAA Title VI)

AGENCY: Administration for Community Living, HHS.

ACTION: Notice.

SUMMARY: The Administration for Community Living (ACL) is announcing an opportunity for the public to comment on the proposed collection of information the agency proposes to collect related to an evaluation of the American Indian, Alaska Natives and Native Hawaiian Programs. Under the Paperwork Reduction Act of 1995 (the PRA), Federal agencies are required to publish notice in the Federal Register concerning each proposed collection of information, including each proposed extension of an existing collection of information, and to allow 60 days for public comment in response to the notice. This notice solicits comments on the information collection requirements relating to the evaluation of the Title VI of the Older Americans Act.

DATES: Submit written or electronic comments on the collection of information by April 24, 2017.

ADDRESSES: Submit electronic comments on the collection of information to: Kristen.Hudgins@acl.hhs.gov. Submit written comments on the collection of information to: U.S. Department of Health and Human Services: Administration for Community Living, Washington, DC 20201, Attention: Kristen Hudgins.

FOR FURTHER INFORMATION CONTACT: Kristen Hudgins, 202-795-7732.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60- day notice in the Federal Register concerning each proposed collection of information, including each proposed extension of an existing collection of information, before submitting the collection to OMB for approval. To comply with this requirement, ACL is publishing a notice of the proposed collection of information set forth in this document. With respect to the following collection of information, ACL invites comments on: (1) Whether the proposed collection of information is necessary for the proper performance of ACL's functions, including whether the information will have practical utility; (2) the accuracy of ACL's estimate of the burden of the proposed collection of information, including the validity of the methodology and assumptions used; (3) ways to enhance the quality, utility, and clarity of the information to be collected; and (4) ways to minimize the burden of the collection of information on respondents, including through the use of automated collection techniques when appropriate, and other forms of information technology. The Data Collection Materials for the Evaluation of the Administration for Community Living's American Indian, Alaska Natives and Native Hawaiian Programs (OAA Title VI) is a new data collection (ICR-New) that will include focus groups for Elders and caregiver program participants, interviews with Title VI staff, and a survey for caregiver program participants. The Evaluation of the Administration for Community Living's American Indian, Alaska Natives and Native Hawaiian Programs will allow ACL/AoA to document the value of the Title VI programs for individuals, families, communities and Tribes/Tribal Organizations. ACL estimates the burden of this collection of information as follows:

| Number of respondents | Number of responses per respondent | Average burden hours (in minutes) per response | Total burden hours
Elder and Caregiver Focus Groups | 600 (at 2 focus groups of 10 people on average per 30 grantees) | 1 | 120 | 1,200
Program Staff Interviews | 30 | 1 | 60 | 30
Caregiver Survey | 1,110 (at an average of 37 respondents per 30 grantees) | 1 | 25 | 462.5
Total |  |  |  | 1,692.5

The proposed data collection tools may be found on the ACL Web site at: https://aoa.acl.gov/Program_Results/Program_survey.aspx.

Dated: February 14, 2017.
Daniel P. Berger,
Acting Administrator and Assistant Secretary for Aging.

[FR Doc. 2017-03485 Filed 2-22-17; 8:45 am]

BILLING CODE 4154-01-P